DEPARTMENT OF COMMERCE

National Oceanic and Atmospheric Administration

50 CFR Part 679

[Docket No. 031016262-4107-02; I.D. 100603E]

RIN 0648-AR08

Fisheries of the Exclusive Economic Zone Off Alaska; Recordkeeping and Reporting

AGENCY: National Marine Fisheries Service (NMFS), National Oceanic and Atmospheric Administration (NOAA), Commerce.

ACTION: Final rule.

SUMMARY: NMFS issues this final rule to revise the descriptions of Gulf of Alaska (GOA) reporting areas 620 and 630 in paragraph b of Figure 3 to 50 CFR part 679 to include the entire Alitak/Olga/Deadman's/Portage Bay complex of Kodiak Island within reporting area 620. This action is necessary to improve quota management and fishery enforcement in the GOA. This action is intended to meet the conservation and management requirements of the Magnuson-Stevens Fishery Conservation and Management Act (Magnuson-Stevens Act) and to further the goals and objectives of the Fishery Management Plan for Groundfish of the Gulf of Alaska (FMP).

DATES: Effective May 24, 2004.

ADDRESSES: Copies of the regulatory impact review/initial regulatory flexibility analysis (RIR/IRFA) and the final regulatory flexibility analysis (FRFA) prepared for this action may be obtained from the NMFS Alaska Region, P.O. Box 21668, Juneau, AK 99802-1668, Attn: Lori Durall, or by calling 907-586-7247.

FOR FURTHER INFORMATION CONTACT: Patsy A. Bearden, 907-586-7008 or patsy.bearden@noaa.gov.

SUPPLEMENTARY INFORMATION: The U.S. groundfish fisheries of the GOA in the exclusive economic zone (EEZ) off Alaska are managed by NMFS under the FMP. The FMP was prepared by the North Pacific Fishery Management Council under the Magnuson-Stevens Act and is implemented by regulations at 50 CFR part 679. General regulations that also pertain to U.S. fisheries appear at subpart H of 50 CFR part 600.

This action revises the description of reporting areas 620 and 630 in paragraph b of Figure 3 to 50 CFR part 679 by including all waters of the Alitak/Olga/Deadman's/Portage Bay complex of Kodiak Island within reporting area 620 and excluding all such waters from reporting area 630. The background regarding this action is detailed in the preamble to the proposed rule (68 FR 62423, November 4, 2003). Public comments on the proposed rule were invited through December 4, 2003. No public comments were received on this rule.

The boundary between GOA reporting areas 620 and 630 near Kodiak Island, Alaska, is 154°00' W. longitude from the south side of the Alaska Peninsula, southward to the limits of the EEZ off Alaska. On Kodiak Island, this line of longitude bisects the Alitak/Olga/Deadman's/Portage Bay complex on the southwestern end of the island.

The division of the bay complex between reporting areas 620 and 630 means that different parts of the bay open and close on different schedules. Openings and closings in the lower part of the bay complex are driven by reporting area 620 openings and closings, while openings and closings in the upper part, including Deadman's and Portage Bays and a tip of Olga Bay, are driven by openings and closings in reporting area 630. In recent years, the part of the bay in reporting area 620 has tended to be open to fishing more days per year than the part of the bay in reporting area 630.

Deadman's Bay has deep water that often provides good opportunities for pollock mid-water trawling. The waters are relatively protected, and suitable for small vessels. The deep water in reporting area 620 (in Alitak Bay and the lower reaches of Deadman's Bay) is relatively constricted and dotted with pinnacles, making these waters less suitable for pollock fishing. This action would place the deeper waters in Deadman's Bay under the reporting area 620 openings and closings schedule, and should give fishermen more days of access to the deeper waters in a typical year than they would have otherwise.

Classification

The Administrator, Alaska Region, NMFS, determined that this final rule is necessary for the conservation and management of the groundfish fishery in the GOA and that it is consistent with the Magnuson-Stevens Act and other applicable laws.

An FRFA was prepared to address the requirements of the Regulatory Flexibility Act at section 604(a). The FRFA incorporates the IRFA and a summary of the analyses completed to support the action. A copy of this analysis is available from the NMFS (see ADDRESSES). A summary of the FRFA follows:

Need for and Objectives of This Action

The boundary between GOA reporting areas 620 and 630 near Kodiak Island, Alaska, is 154°00' W. longitude from the south side of the Alaska Peninsula, southward to the limits of the EEZ off Alaska. On Kodiak Island, this line of longitude bisects the Alitak/Olga/Deadman's/Portage Bay complex on the southwestern end of the island. This action is necessary to include all the waters of this complex of bays within one reporting area, thereby improving management and enforcement of groundfish quotas.

The objectives of this action are to: (1) reduce the potential costs of harvesting pollock in reporting areas 620 and 630, and (2) maintain the biological integrity of fish stocks managed by NMFS under the Magnuson-Stevens Act.

Issues Raised by Public Comments on the IRFA

The proposed rule was published in the Federal Register on November 4, 2003 (68 FR 62423). An IRFA was prepared for the proposed rule and summarized in the Classification section of the preamble to that rule. The public comment period ended on December 4, 2003. No public comments were received in response to the IRFA.

Number and Description of Small Entities Affected by the Rule

The directly regulated entities are groundfish vessels targeting pollock in Alitak and Deadman's Bays. Since inshore-offshore regulations assign GOA pollock harvests 100 percent to the catcher vessels harvesting pollock for processing by the inshore component, all directly regulated entities are catcher vessels.

The information necessary to determine whether a vessel is independently owned and operated and has gross revenues of less than $3.5 million, in all its affiliated activities, is not available. However, by using estimates of Alaska groundfish revenue by vessel, it is possible to identify vessels that clearly are not small entities. In 2001, 117 catcher vessels fished for groundfish in Federal waters in the GOA. None of these had more than $3.5 million in groundfish revenues from the GOA. Therefore, none of these vessels were clearly large vessels; all of them may be small entities. For this reason, all the vessels directly regulated by this action (a subset of the GOA trawlers) are treated as small entities.

Harvest records indicate that a large proportion of the GOA pollock trawl fleet has been active in the Alitak, Olga, Deadman's, Portage Bay area. In the four Alaska Department of Fish and Game statistical areas that comprise the bay complex, 29 vessels were identified as having targeted pollock in 1998, 30 in 1999, 0 in 2000, and 29 in 2001. As noted above, all of these vessels are believed to be small entities.

Average GOA trawl catcher vessel groundfish revenues were about $350,000 in 2001. Average revenues from targeted pollock trawling activity in the Alitak/Olga/Deadman's/Portage Bay complex were about $15,000 in 1998, about $18,000 in 1999, nothing in 2000, and about $15,000 in 2001.

Recordkeeping and Reporting Requirements

This regulation does not impose new recordkeeping or reporting requirements on the regulated small entities.

Description of Steps Taken to Minimize Significant Economic Impacts

This action shifts the reporting area 630 waters in the Alitak Bay complex from reporting area 630 to reporting area 620. This action modifies existing regulations so as to reduce the burden of those regulations on the fleet of small entities. These entities will benefit through reduced costs and potentially increased revenues. No alternative was identified that would accomplish the objectives of this action, with a smaller adverse impact on small entities. This analysis identified one alternative to this action: the status quo. Under this alternative the boundaries do not change, and fishing opportunities available to GOA pelagic trawlers are limited to a greater extent than under the preferred alternative. The status quo is thus inferior in this regard to the preferred alternative.

This final rule has been determined to be not significant for purposes of Executive Order 12866.

This rule does not duplicate, overlap, or conflict with other Federal regulations.

This action does not impose new reporting, recordkeeping or other compliance requirements.

Small Entity Compliance Guide

Small entities are not required to take any additional actions to comply with this action.

List of Subjects in 50 CFR Part 679

Alaska, Fisheries, Recordkeeping and reporting requirements.

Dated: April 19, 2004.
Rebecca Lent
Deputy Assistant Administrator for Regulatory Programs, National Marine Fisheries Service.

For reasons set out in the preamble, 50 CFR part 679 is amended as follows:

PART 679—FISHERIES OF THE EXCLUSIVE ECONOMIC ZONE OFF ALASKA

1. The authority citation for part 679 continues to read as follows:

Authority: 16 U.S.C. 773 et seq., 1801 et seq.; 3631 et seq.; Title II of Division C, Pub. L. 105-277; Sec 3027, Pub. L. 106-31; 113 Stat. 57; 16 U.S.C. 1540(f); and Sec. 209, Pub. L. 106-554.

2. Paragraph b to Figure 3 to Part 679 is revised as follows:

b. Coordinates
Code | Description
610 | Western GOA Regulatory Area, Shumagin District. Along the south side of the Aleutian Islands, including those waters south of Nichols Point (54°51′30″ N lat) near False Pass, and straight lines between the islands and the Alaska Peninsula connecting the following coordinates in the order listed: 52°49.18′ N, 169°40.47′ W; 52°49.24′ N, 169°07.10′ W; 53°23.13′ N, 167°50.50′ W; 53°18.95′ N, 167°51.06′ W; 53°58.97′ N, 166°16.50′ W; 54°02.69′ N, 166°02.93′ W; 54°07.69′ N, 165°39.74′ W; 54°08.40′ N, 165°38.29′ W; 54°11.71′ N, 165°23.09′ W; 54°23.74′ N, 164°44.73′ W; and southward to the limits of the US EEZ as described in the current editions of NOAA chart INT 813 (Bering Sea, Southern Part) and NOAA chart 500 (West Coast of North America, Dixon Entrance to Unimak Pass), between 170°00′ W long and 159°00′ W long.
620 | Central GOA Regulatory Area, Chirikof District. Along the south side of the Alaska Peninsula, between 159°00′ W long and 154°00′ W long, and southward to the limits of the US EEZ as described in the current edition of NOAA chart 500 (West Coast of North America, Dixon Entrance to Unimak Pass) except that all waters of the Alitak/Olga/Deadman’s/Portage Bay complex of Kodiak Island are included in this area.
630 | Central GOA Regulatory Area, Kodiak District. Along the south side of continental Alaska, between 154°00′ W long and 147°00′ W long, and southward to the limits of the US EEZ as described in the current edition of NOAA chart 500 (West Coast of North America, Dixon Entrance to Unimak Pass) excluding all waters of the Alitak/Olga/Deadman’s/Portage Bay complex of Kodiak Island and Area 649.
640 | Eastern GOA Regulatory Area West Yakutat District. Along the south side of continental Alaska, between 147°00′ W long and 140°00′ W long, and southward to the limits of the US EEZ, as described in the current edition of NOAA chart 500 (West Coast of North America, Dixon Entrance to Unimak Pass), excluding area 649.
649 | Prince William Sound. Includes those waters of the State of Alaska inside the base line as specified in Alaska State regulations at 5 AAC 28.200.
650 | Eastern GOA Regulatory Area, Southeast Outside District. East of 140°00′ W long and southward to the limits of the US EEZ as described in the current edition of NOAA chart 500 (West Coast of North America, Dixon Entrance to Unimak Pass), excluding area 659.
659 | Eastern GOA Regulatory Area, Southeast Inside District. As specified in Alaska State regulations at 5 AAC 28.105 (a)(1) and (2).
690 | GOA Outside the U.S. EEZ. As described in the current editions of NOAA chart INT 813 (Bering Sea, Southern Part) and NOAA chart 500 (West Coast of North America, Dixon Entrance to Unimak Pass).
NOTE: A statistical area is the part of a reporting area contained in the EEZ.

[FR Doc. 04-9297 Filed 4-20-04; 4:31 pm]

BILLING CODE 3510-22-S